DEPARTMENT OF THE INTERIOR

Bureau of Reclamation

Notice of Charter Renewal; California Bay-Delta Public Advisory Committee Charter Renewal

AGENCY: Bureau of Reclamation, Interior.

ACTION: Notice of renewal.

SUMMARY: This notice is published in accordance with Section 9(a)(2) of the Federal Advisory Committee Act of 1972 (Pub. L. 92-463). Following consultation with the General Services Administration, notice is hereby given that the Secretary of the Interior (Secretary) is renewing the charter for the California Bay-Delta Public Advisory Committee (Committee). The purpose of the Committee is to provide advice and recommendations to the Secretary on implementation of the CALFED Bay-Delta Program (Program) as described in the Programmatic Record of Decision which outlines the long-term comprehensive solution for addressing the problems affecting the San Francisco Bay-Sacramento-San Joaquin Delta Estuary, Public Law 108-361, and other applicable law. Specific responsibilities of the Committee include: (1) Making recommendations on annual priorities and coordination of Program actions to achieve balanced implementation of the Program elements; (2) providing recommendations on effective integration of Program elements to provide continuous, balanced improvement of each of the Program objectives (ecosystem restoration, water quality, levee system integrity, and water supply reliability); (3) evaluating implementation of Program actions, including assessment of Program area performance; (4) reviewing and making recommendations on Program Plans and Annual Reports describing implementation of Program elements as set forth in the ROD to the Secretary; (5) recommending Program actions taking into account recommendations from the Committee's subcommittees; and (6) liaison between the Committee's subcommittees, the State and Federal agencies, the Secretary and the Governor.

The Committee consists of 20 to 30 members who are appointed by the Secretary, in consultation with the Governor.

FOR FURTHER INFORMATION CONTACT: Diane Buzzard, CALFED Program Manager, Bureau of Reclamation, 2800 Cottage Way, Sacramento, California 95821-1898, telephone 916-978-5525.

The certification of Charter renewal is published below:

Certification

I hereby certify that Charter renewal of the California Bay-Delta Public Advisory Committee is in the public interest in connection with the performance of duties imposed on the Department of the Interior.

Dirk Kempthorne,
Secretary of the Interior.

[FR Doc. 07-3146 Filed 6-26-07; 8:45 am]

BILLING CODE 4310-MN-M